DEPARTMENT OF AGRICULTURE

Food and Nutrition Service

Public Notice of Comment Period for Proposed Yields for Revision of the “Food Buying Guide for Child Nutrition Programs”; Correction

AGENCY: Food and Nutrition Service, USDA.

ACTION: Notice; correction.

SUMMARY: This document corrects dates in the Notice published in the Federal Register January 5, 2000, regarding Comment Period for Proposed Yields for Revision of the “Food Buying Guide for Child Nutrition Programs”. This correction revises an incorrect comment date.

DATES: Comments must be received on or before April 15, 2000 to be assured of consideration.

ADDRESSES: Address comments on proposed yields or yield research on specific items to Lori French, Chief, Nutrition Promotion and Training Branch, Child Nutrition Division, Food and Nutrition Service, USDA, 3101 Park Center Drive, Room 1004, Alexandria, Virginia 22302

FOR FURTHER INFORMATION CONTACT: Janice Fabina, 703-305-2621.

SUPPLEMENTARY INFORMATION: The Food and Nutrition Service published a Notice in the Federal Register (65 FR 436) on January 5, 2000. This Notice contains an incorrect date. This correction revises that date.

Correction

In the Notice FR document 00-204, beginning on page 436, in the issue of Wednesday, January 5, 2000, make the following corrections: On page 436 in the first column, under the DATES heading the statement is corrected to read “Comments must be received on or before April 15, 2000 to be assured of consideration.” On page 437, in the second column, the fourth full sentence is corrected of read “Written comments should be sent to FNS at the address in the ADDRESSES section of this Notice by April 15, 2000.”

Dated: January 14, 2000.
Samuel Chambers, Jr.,
Administrator, Food and Nutrition Service.

[FR Doc. 00-1968 Filed 1-26-00; 8:45 am]

BILLING CODE 3410-30-M